DEPARTMENT OF HOUSING AND URBAN DEVELOPMENT

[Docket No. FR-5843-N-03]

Privacy Act; Notice of Amended System of Records—Single Family Housing Enterprise Data Warehouse

AGENCY: Office of the Chief Information Officer, HUD.

ACTION: Notice amendment.

SUMMARY: HUD is proposing to revise information published in the Federal Register about one of its system of records, the Single Family Housing Enterprise Data Warehouse (SFHEDW). The revision implemented under this republication, reflects current corrective and administrative changes to the system of records purpose, location, authority, and records retention captions. This update refines previously published details in a clear and cohesive format. This republication does not meet the threshold criteria established by the Office of Management and Budget (OMB) for a modified system of records report. A more detailed description of the present systems status is republished under this notice. This notice deletes and supersedes prior notice published in the Federal Register at 76 FR 66950 on October 28, 2011. The scope and functional purpose in place for this system remain unchanged.

DATES: Effective Date: This action is effective immediately upon publication of this notice in the Federal Register.

ADDRESSES: Interested persons are invited to submit comments regarding this notice to the Rules Docket Clerk, Office of the General Counsel, Department of Housing and Urban Development, 451 Seventh Street SW., Room 10276, Washington, DC 20410-0500. Communication should refer to the above docket number and title. A copy of each communication submitted will be available for public inspection and copying between 8:00 a.m. and 5:00 p.m. weekdays at the above address.

FOR FURTHER INFORMATION CONTACT: Donna Robinson-Staton, Chief Privacy Officer, 451 Seventh Street SW., Washington, DC 20410 (Attention: Capitol View Building, 4th Floor), telephone number: (202) 402-8073. [The above telephone number is not a toll free number.] A telecommunications device for hearing- and speech-impaired persons (TTY) is available by calling the Federal Information Relay Service's toll-free telephone number (800) 877-8339.

SUPPLEMENTARY INFORMATION: This system of records is maintained by HUD's Office of Single Family Housing, and includes users of HUD's information technology personally identifiable information that is retrieved by a name or unique identifier. The system encompasses programs and services of the Department's data collection and management practices. Publication of this notice allows HUD to satisfy its reporting requirement and keep an up-to-date accounting of its system of records publication. The system proposal will incorporate Federal privacy requirements and HUD policy requirements. The Privacy Act provides certain safeguards for an individual against an invasion of personal privacy by requiring Federal agencies to protect records contained in an agency system of records from unauthorized disclosure, by ensuring that information is current and collected only for its intended use, and by providing adequate safeguards to prevent misuse of such information. Additionally, this notice demonstrates the Department's focus on industry best practices in protecting the personal privacy of the individuals covered by this system notification. This notice states the name and location of the record system, the authority for and manner of its operations, the categories of individuals that it covers, the type of records that it contains, the sources of the information for those records, the routine uses made of the records and the type of exemption in place for the records. In addition, this notice includes the business address of the HUD officials who will inform interested persons of the procedures whereby they may gain access to and/or request amendments to records pertaining to them.

This publication does not meet the threshold requirements established by the Office of Management and Budget (OMB) for filing a report to OMB, the Senate Committee on Homeland Security and Governmental Affairs, and the House Committee on Government Reform as instructed by Paragraph 4c of Appendix l to OMB Circular No. A-130, “Federal Agencies Responsibilities for Maintaining Records About Individuals,” July 25, 1994 (59 FR 37914).

Authority: 5 U.S.C. 552a; 88 Stat. 1896; 42 U.S.C. 3535(d).

Dated: February 27, 2015.
Rafael C. Diaz,
Chief Information Officer.

SYSTEM OF RECORDS NO.:

HSNG.SF/HUP.01

SYSTEM NAME:

Single Family Housing Enterprise Data Warehouse (SFHEDW)—D64A.

SYSTEM LOCATION:

The HUD Data Center, which houses SFHEDW, is located at the Hewlett Packard (HP) Facility at 2020 Union Carbide Drive, South Charleston, West Virginia 25303-2734. Additionally, HUD Headquarter staff and staff throughout the United States will have access to SFHEDW through HUD's standard telecommunications network from desktop workstations. Internal and external hosted locations are as follows: HUD headquarters building, 451 Seventh Street SW., Washington, DC 20410; and Field Offices and Home Ownership Centers ¹ where Privacy Act records may be maintained or accessed. The records management storage and archival facility for SFHEDW is located at the Atlanta Federal Records Center, 4712 Southpark Boulevard, Ellenwood, Georgia 30294.

¹ http://portal.hud.gov/hudportal/documents/huddoc?id=append2.pdf

CATEGORIES OF INDIVIDUALS COVERED BY THE SYSTEM:

Individuals who have obtained a mortgage insured under HUD/FHA's single family mortgage insurance programs, individuals who have assumed such a mortgage, and individuals involved in appraising or underwriting the mortgage. The category of individuals contained within this system includes, but are not limited to: mortgagors, appraisers, and employees of lenders, HUD and other parties involved with the transaction.

CATEGORIES OF RECORDS IN THE SYSTEM: AUTOMATED FILES CONTAIN THE FOLLOWING CATEGORIES OF RECORDS:

Mortgagors: Name, addresses, date of birth, social security number, and racial/ethnic background (if disclosed) which are supplied by lenders through Automated Underwriting Systems during the mortgage application and underwriting process.

Parties Involved with Transaction: Name, addresses, and identifying numbers which are supplied by the lender or the individual.

Mortgage Details: Data regarding current and former FHA insured mortgages which includes underwriting data, such as: Loan-to-value ratios and expense ratios; original terms, such as: mortgage amount, interest rate, term in months; status of the mortgage insurance; and history of payment defaults, if any. This information is provided by the lender at the time of closing, and also maintained by the loan servicer.

HUD Employees: Names and identification of all HUD employees who have access to the system records. Also, identification information is stored for employees who work with mortgage applications through FHA Connection.

Note: Certain records contained in this system, which pertain to individuals, contain principally proprietary information concerning sole proprietorships, which may reflect personal information; however, only the records reflecting personal information are subject to the Privacy Act.

AUTHORITY FOR MAINTENANCE OF THE SYSTEM:

The system is maintained in accordance with Section 203, National Housing Act, Public Law 73-479; and 42 U.S.C. 3543, titled “Preventing fraud and abuse in Department of Housing and Urban Development programs” enacted as part of the Housing and Community Development Act of 1987, which permits the collection of Social Security Numbers.

PURPOSE(S):

The SFHEDW is an ongoing, fully operational data warehouse that is the key source for HUD employees and contractors who require access to Single Family data. Users of SFHEDW have assigned roles, including a “need-to-know” standard access to the system's information. SFHEDW is an integrated data warehouse that contains critical Single Family business data from twenty (20) originating source systems, mostly from FHA Single Family automated systems. The system allows queries for reporting to support oversight activities, market and economic assessment, public and stakeholder communication, planning and performance evaluation, policies and guidelines promulgation, monitoring and enforcement.

ROUTINE USES OF RECORDS MAINTAINED IN THE SYSTEM, INCLUDING CATEGORIES OF USERS AND THE PURPOSES OF SUCH USES.

In addition to those disclosures generally permitted under 5 U.S.C. 552a(b) of the Privacy Act, other routine uses include:

1. To the Federal Bureau of Investigations (FBI), for investigations of possible fraud revealed during the underwriting, insuring or monitoring process.

2. To the Department of Justice, for prosecutions of fraud revealed in underwriting, insuring or monitoring.

3. To the General Accounting Office (GAO), for audit purposes.

4. To contractors, grantees, experts, consultants, and the agents thereof, and others performing or working on a contract, service, grant, cooperative agreement with HUD, when necessary to accomplish an agency function related to its system of records, limited to only those data elements considered relevant to accomplishing an agency function. Individuals provided information under this routine use are subject to the same Privacy Act requirements and limitations on disclosure as are applicable to HUD officers and employees.

5. To contractors, experts, consultants with whom HUD has a contract, service agreement or other assignment of the Department, when necessary to utilize relevant data for purposes of testing new technology and systems designed to enhance program operations and performance.

6. To appropriate agencies, entities, and persons when: (a) HUD suspects or has confirmed that the security or confidentiality of information in a system of records has been compromised; (b) HUD has determined that as a result of the suspected or confirmed compromise there is a risk of harm to economic or property interests, identity theft or fraud, or harm to the security or integrity of systems or programs (whether maintained by HUD or another agency or entity) that rely upon the compromised information; and (c) the disclosure made to such agencies, entities, and persons is reasonably necessary to assist in connection with HUD's efforts to respond to the suspected or confirmed compromise and prevent, minimize, or remedy such harm for purposes of facilitating responses and remediation efforts in the event of a data breach.

See also HUD's privacy Web site, Appendix I,² for additional discretionary routine uses that may in certain cases be applicable to SFHEDW/D64A.

² http://portal.hud.gov/hudportal/documents/huddoc?id=append1.pdf

POLICIES AND PRACTICES FOR STORING, RETRIEVING, ACCESSING, RETAINING, AND DISPOSING OF RECORDS IN THE SYSTEM

STORAGE:

Records are stored on magnetic tape/disc/drum. There are no paper records stored by this system.

RETRIEVABILITY:

Records are retrieved by name, social security number or other identification number, case number, property address, or any other type of stored data. There are no paper records retrieved by this system.

SAFEGUARDS:

Electronic records are maintained in secured areas, and access is limited to authorized personnel. There are no paper records maintained requiring safeguarding by this system.

RETENTION AND DISPOSAL:

Electronic records of cases established are retained indefinitely. Records maintained by SFHEDW are copies of records compiled from the originating source systems. For this reason, records within SFHEDW can be maintained until no longer needed for administrative, legal, audit, or other operational purposes. The Records Retention Schedule for SFHEDW is listed in the General Records Schedule (GRS) 20.4/20.5.

SYSTEM MANAGER(S) AND ADDRESS:

Director, Office of Single Family Program Development, HUP, Department of Housing and Urban Development, 451 Seventh Street SW., Washington, DC 20410. Notification and Record access procedures: For information, assistance, or inquiries about the existence of records, contact the Chief Privacy Officer, Department of Housing and Urban Development, 451 Seventh Street SW., Room 4156, Washington, DC 20410 (Attention: Capitol View Building, 4th Floor), telephone number: (202) 402-8073. Verification of your identity must include original signature and be notarized. Written request must include the full name, date of birth, current address, telephone number, and a valid government issued ID of the individual making the request.

CONTESTING RECORD PROCEDURES:

The Department's rules for contesting contents of records and appealing initial denials appear in 24 CFR part 16. Additional assistance may be obtained by contacting: U.S. Department of Housing and Urban Development, Chief Privacy Officer, 451 Seventh Street SW., Washington, DC 20410, or the HUD Departmental Privacy Appeals Officers, Office of General Counsel, Department of Housing and Urban Development, 451 Seventh Street SW., Washington, DC 20410.

RECORD SOURCE CATEGORIES:

Mortgagors, appraisers, mortgagee staff, underwriters, and HUD employees provide data to the originating source systems. The originating source systems then pass select data onto SFHEDW. The originating source systems that provide data to SFHEDW are as follows:

Active System Interfaces:

1. A43—Single Family Insurance System (SFIS).

2. A43C—Single Family Insurance Claims System (CLAIMS).

3. A80R—Single Family Premium Collections System—Upfront (SFPCS-U).

4. A80S—Single Family Acquired Assets Management System (SAMS).

5. F17—Computerized Home Underwriting Mortgage System (CHUMS).

6. F42D—Single Family Default Monitoring System (SFDMS).

7. F72—Title I Insurance and Claims System (TIIS).

8. HMDA data from Federal Reserve Board (FRB).

9. F71A—Generic Debt Management System (GDEBT).

10. A15—Geocoding Service Center (GSC).

11. A80H—Single Family Mortgage Asset Recover Technology System (SMART).

12. P271—Home Equity Reverse Mortgage Information Technology (HERMIT).

13. P013—FHA Subsidiary Ledger (FHA-SL).

14. P269—Ginnie Mae's Reporting and Feedback System (RFS).

15. P238—Ginnie Mae's Portfolio Analysis Database System/Corporate Watch (GPADS/CW)

16. P278—Lender Electronic Assessment Portal (LEAP).

Archival Data From Retired Systems:

1. A80N—Single Family Mortgage Notes System (SFMNS)—System replaced by A80H Single Family Mortgage Asset Recover Technology System (SMART).

2. F12—Home Equity Conversion Mortgage (HECM)—System replaced by P271 Home Equity Reverse Mortgage Information Technology (HERMIT).

3. F42—Consolidated Single Family Statistical System (CSFSS).

4. F42H—Home Mortgage Disclosure Act System (HMDA)—System replaced by data from the Federal Reserve Board (FRB).

5. F51—Institution Master File (IMF)—System replaced by P278 Lender Electronic Assessment Portal (LEAP).

SYSTEMS EXEMPTED FROM CERTAIN PROVISIONS OF THE ACT:

None.

[FR Doc. 2015-05278 Filed 3-6-15; 8:45 am]

BILLING CODE 4210-67-P